GENERAL SERVICES ADMINISTRATION

[Notice QDC-2019-01; Docket No. 2019-0002; Sequence No. 18]

Unique Entity ID Standard for Awards Management

AGENCY: Office of Systems Management, Integrated Award Environment, General Services Administration (GSA).

ACTION: Notice; announcement of public meeting.

SUMMARY: Notice of this new Unique Entity ID for Federal awards management includes the final technical specification for the identifier standard. IAE is hosting a meeting to provide information on the new Unique Entity ID standard. The meeting is open to current and potential federal awardees (contracts, grants, loan recipients, etc.) and the public.

DATES: The Unique Entity ID standard is considered final on July 10, 2019.

Meeting date: The meeting will be held on Thursday, July 25, 2019, starting at 1 p.m. Eastern Standard Time (EST), and ending no later than 2 p.m., EST.

ADDRESSES: The meeting will be held virtually. Interested individuals must register to attend as instructed below under Supplementary Information. Once registered, participants will receive the meeting information. Further information on the unique entity ID may be found online on the following website: gsa.gov/entityid.

FOR FURTHER INFORMATION CONTACT: Ms. Nancy Goode, Program Manager, IAE Outreach and Stakeholder Engagement Division. More information can be found at gsa.gov/entityid. Questions related to government implementation can be directed to entityvalidation@gsa.gov. All media questions should be directed to the GSA Media Affairs at press@gsa.gov.

SUPPLEMENTARY INFORMATION:

Background

Currently, the System for Award Management (SAM.gov) utilizes the Dun & Bradstreet (D&B) Data Universal Numbering System (DUNS) ® nine-digit number as the unique identifier for entities throughout the federal awarding lifecycle, in SAM.gov, in other Integrated Award Environment (IAE) systems, on required forms, and in downstream government systems.

In 2016, the government revised both the Federal Acquisition Regulation (FAR) and Title 2 of the Code of Federal Regulations (2CFR) to remove any proprietary references to D&B and the DUNS® number as the unique entity identifier. This allowed the government to decouple the required unique identifier from the supporting entity validation services.

As such, the U.S. government is moving to a new unique entity identifier for federal awards management, including, but not limited to, contracts, grants, and cooperative agreements, which will ultimately become the primary key to identify entities throughout the federal awarding lifecycle, in SAM.gov, other IAE systems, on required forms, and in downstream government systems. The DUNS® will be phased out as the entity identifier for entity record within SAM.

Through December 2020, IAE systems will be transitioning from the DUNS® to a SAM-generated Unique Entity ID (UEI). The standard for the new UEI was developed by an interagency working group. This new entity identifier will be the authoritative identifier once the transition is complete.

More information can be found at gsa.gov/entityid. Questions related to government implementation can be directed to entityvalidation@gsa.gov. All media questions should be directed to the GSA Media Affairs at press@gsa.gov.

Public Meeting

The public meeting will be conducted virtually where information on the awards management Unique Entity ID standard will be presented.

Procedures for Attendance

To register for the meeting please email entityvalidation@gsa.gov and the meeting information will be sent to you.

Judith Zawatsky,
Assistant Commissioner, Office of Systems Management, General Services Administration.

[FR Doc. 2019-14665 Filed 7-9-19; 8:45 am]

BILLING CODE 6820-WY-P